DEPARTMENT OF HEALTH AND HUMAN SERVICES

National Institutes of Health

Proposed Collection; Comment Request: NIH Office of Intramural Training & Education Application

SUMMARY: In compliance with the requirement of Section 3506(c)(2)(A) of the Paperwork Reduction Act of 1995, for opportunity for public comment on proposed data collection projects, the Office of Intramural Training & Education/OIR/OD, the National Institutes of Health (NIH) will publish periodic summaries of proposed projects to be submitted to the Office of Management and Budget (OMB) for review and approval.

Proposed Collection

Title: NIH Office of Intramural Training & Education Application. Type of Information Collection Request: Revision. Form Number: 0925-0299. Expiration Date: March 31, 2014. Need and Use of Information Collection: The Office of Intramural Training & Education (OITE) administers a variety of programs and initiatives to recruit pre-college through post-doctoral educational level individuals into the National Institutes of Health Intramural Research Program (NIH-IRP) to facilitate develop into future biomedical scientists. The proposed information collection is necessary in order to determine the eligibility and quality of potential awardees for traineeships in these programs. The applications for admission consideration include key areas such as: personal information, eligibility criteria, contact information, student identification number, training program selection, scientific discipline interests, educational history, standardized examination scores, reference information, resume components, employment history, employment interests, dissertation research details, letters of recommendation, financial aid history, sensitive data, future networking contact, travel information, as well as feedback questions about interviews and application submission experiences. Sensitive data collected on the applicants, race, gender, ethnicity, disability, and recruitment method, are made available only to OITE staff members or in aggregate form to select NIH offices and are not used by the admission committee for admission consideration; optional to submit.

Frequency of Response: On occasion. Affected Public: Individuals seeking intramural training opportunities and references for these individuals. Type of Respondents: students, post-baccalaureates, technicians, graduate students, post-doctorates, references, and alumni. There are no capital costs, operating costs, and/or maintenance costs to report.

The annual reporting burden is displayed in the following table:

Type of respondent | Estimated No. of respondents | Estimated No. of responses annually per respondent | Estimated total annual burden hours | Estimated total annual burden hours
Summer Internship Program in Biomedical Research (SIP) | 6,820.0 | 1.0 | 1.0 | 6,820.00
Biomedical Engineering Summer Internship Program (BESIP) | 80.0 | 1.0 | 1.0 | 80.00
Post-baccalaureate Training Program (PBT) | 1,885.0 | 1.0 | 1.0 | 1,885.00
Community College Summer Enrichment Program (CCSEP) | 100.0 | 1.0 | 1.0 | 100.00
Technical Training Program (PBT) | 115.0 | 1.0 | 1.0 | 115.00
Graduate Partnerships Program (GPP)—Application (Select Institutional Partnerships) | 250.0 | 1.0 | 1.0 | 250.00
Graduate Partnerships Program (GPP)—Registration (Select Institutional Partnerships + Individual Partnership) | 140.0 | 1.0 | 1.0 | 140.00
National Graduate Student Research Conference (NGSRC) | 800.0 | 1.0 | 1.0 | 800.00
Undergraduate Scholarship Program (UGSP) | 200.0 | 1.0 | 1.0 | 200.00
Alumni Database | 1,900.0 | 1.0 | 1.0 | 1,900.00
UGSP—Certificate of Eligibility (Completed by Applicant) | 200.0 | 1.0 | 3/60 | 10.00
UGSP—Certificate of Eligibility (Completed by University Staff) | 200.0 | 1.0 | 15/60 | 50.00
UGSP—Deferment Form (Completed by Applicant) | 40.0 | 1.0 | 3/60 | 2.00
UGSP—Deferment Form (Completed by University Staff) | 40.0 | 1.0 | 15/60 | 10.00
Reference Recommendation Letters for All Programs | 23,235.0 | 1.0 | 15/60 | 5,808.75
Survey—Race-Ethnicity-Gender-Birth Year (25% Response Rate) | 3,073.0 | 1.0 | 3/60 | 153.65
Survey—Time to Complete Application Form (4% Response Rate) | 492.0 | 1.0 | 3/60 | 24.60
Survey—GPP Interview Experience (60% Response Rate) | 30.0 | 1.0 | 10/60 | 5.0
Totals | 39,600.0 | N/A | N/A | 18,354.00

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact: Dr. Patricia Wagner, Director of Admissions & Registrar, Office of Intramural Training & Education, National Institutes of Health, 2 Center Drive, Building 2/Room 2E06, Bethesda, Maryland 20892-0234, or call 240-476-3619 or email your request, including your address to: wagnerpa@od.nih.gov.

Comments Due Date: Comments regarding this information collection are best assured of having their full effect if received within 60-days of the date of this publication.

Dated: March 14, 2013.
Michael M. Gottesman,
Deputy Director for Intramural Research, National Institutes of Health.

[FR Doc. 2013-06773 Filed 3-22-13; 8:45 am]

BILLING CODE 4140-01-P